FEDERAL COMMUNICATIONS COMMISSION

47 CFR Part 54

[WC Docket Nos. 10-90, 14-58 and CC Docket No. 01-92, Report No. 3047]

Petitions for Reconsideration and Clarification of Action in Rulemaking Proceeding

AGENCY: Federal Communications Commission.

ACTION: Notice of rulemaking petition; correction.

SUMMARY: The Federal Communications Commission published a document in the Federal Register of July 29, 2016, concerning request for oppositions on Petitions for Reconsideration and Clarification. The document contained incorrect dates.

DATES: Oppositions to the Petitions must be filed on or before August 15, 2016. Replies to an opposition must be filed on or before August 25, 2016.

FOR FURTHER INFORMATION CONTACT: Suzanne Yelen, Wireline Competition Bureau, (202) 418-7400, email: Suzanne.Yelen@fcc.go.

SUPPLEMENTARY INFORMATION: This summary contains corrections to the dates portion of a Federal Register summary, 81 FR 49921 (July 29, 2016).

In the FR Doc. 2016-17900, published July 29, 2016 (81 FR 49921), make the following correction.

On page 49921, in the third column, in the “dates” section, correct the second sentence to read “Replies to an opposition must be filed on or before August 25, 2016”.

Federal Communications Commission.
Sheryl D. Todd,
Deputy Secretary, Office of the Secretary.

[FR Doc. 2016-19308 Filed 8-12-16; 8:45 am]

BILLING CODE 6712-01-P